DEPARTMENT OF COMMERCE

National Oceanic and Atmospheric Administration

RIN 0648-XH087

South Atlantic Fishery Management Council; Public Meetings

AGENCY: National Marine Fisheries Service (NMFS), National Oceanic and Atmospheric Administration (NOAA), Commerce.

ACTION: Notice of the South Atlantic Fishery Management Council's (Council) Dolphin Wahoo Advisory Panel (AP) Meeting.

SUMMARY: The South Atlantic Fishery Management Council (Council) will hold a meeting of its Dolphin Wahoo AP on August 22, 2019.

DATES: The meeting will be held via webinar on August 22, 2019, from 8:30 a.m. until 12 p.m.

ADDRESSES:

Meeting address: The meeting will be held via webinar. The webinar is open to members of the public. Registration is required. Webinar registration, an online public comment form, and briefing book materials will be available two weeks prior to the meeting at: http://safmc.net/safmc-meetings/current-advisory-panel-meetings/. Public comments must be received by 12 p.m. on August 21, 2019.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Dolphin Wahoo AP will meet via webinar. Agenda items for the AP meeting include: A review of recent and developing Council actions, revisions to the Dolphin Wahoo Fishery Management Plan goals and objectives, adding bullet and frigate mackerel to the Dolphin Wahoo Fishery Management Plan as ecosystem component species, and other business. The AP members will discuss these issues and provide recommendations for Council consideration as appropriate.

Special Accommodations

The meeting is physically accessible to people with disabilities. Requests for auxiliary aids should be directed to the council office (see ADDRESSES) 5 days prior to the meeting.

Note: The times and sequence specified in this agenda are subject to change.

Authority: 16 U.S.C. 1801 et seq.

Dated: July 9, 2019.
Tracey L. Thompson,
Acting Deputy Director, Office of Sustainable Fisheries, National Marine Fisheries Service.

[FR Doc. 2019-14897 Filed 7-12-19; 8:45 am]

BILLING CODE 3510-22-P